SURFACE TRANSPORTATION BOARD

[Docket No. FD 36214]

Rock & Rail, LLC—Acquisition and Operation Exemption—Rail Lines of Martin Marietta Materials, Inc.

Rock & Rail, LLC (R&R), a Class III rail carrier, has filed a verified notice of exemption under 49 CFR 1150.41 to acquire and operate approximately 0.51 miles of rail line owned by Martin Marietta Materials, Inc. (MMM), located within MMM's existing industry facility in Weld County, CO, between milepost 14.97 and milepost 15.48, which includes existing yard, switching, and industry tracks (the Lines).

R&R states that it has reached an agreement, pursuant to which MMM would transfer its interests in the Lines and other related facilities to R&R, including a concrete ready-mix plant, a 6,412-foot loop track, and 1,315 feet of loading and unloading tracks.¹ R&R states that, pursuant to 49 U.S.C. 10906, it currently has the right to operate and perform switching and other types of operations on the Lines. MMM is currently the only company located at the facility. R&R seeks to acquire the MMM Lines and to operate them as common carrier track, as well to continue its § 10906 services. R&R states that the proposed acquisition and operation of the Lines do not involve a provision or agreement that would limit future interchange with a third-party connecting carrier.

¹ MMM leases the underlying real property from Gerrard Investments, LLC, but owns the Lines and the ready-mix plant. R&R will obtain from MMM an assignment or sublease of the underlying lease and ownership of the Lines, the ready-mix plant, and any improvements on the site.

R&R certifies that the proposed transaction will not result in R&R becoming a Class II or Class I rail carrier and that the projected annual revenues of R&R will not exceed $5 million.

The transaction may be consummated on or after September 19, 2018, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 12, 2018 (at least seven days before the exemption becomes effective).

An original and 10 copies of all pleadings, referring to Docket No. FD 36124, must be filed with the Surface Transportation Board, 395 E Street SW, Washington, DC 20423-0001. In addition, one copy of each pleading must be served on William A. Mullins, Baker & Miller PLLC, 2401 Pennsylvania Ave. NW, Suite 300, Washington, DC 20037.

According to R&R, this action is categorically excluded from environmental review under 49 CFR 1105.6(c) and from historic reporting requirements under 49 CFR 1105.8(b).

Board decisions and notices are available on our website at www.stb.gov.

Decided: August 30, 2018.
By the Board, Scott M. Zimmerman, Acting Director, Office of Proceedings.
Aretha Laws-Byrum,
Clearance Clerk.

[FR Doc. 2018-19200 Filed 9-4-18; 8:45 am]

BILLING CODE 4915-01-P